DEPARTMENT OF THE TREASURY

Internal Revenue Service

Cancellation of Open Meeting of the Area 6 Taxpayer Advocacy Panel (Including the States of Washington, Hawaii, Alaska, Idaho, Oregon, Wyoming, Montana, Utah, New Mexico, Nevada, Las Vegas and Colorado)

AGENCY: Internal Revenue Service (IRS) Treasury.

ACTION: Notice.

SUMMARY: The open meeting of the Area 6 Committee of the Taxpayer Advocacy Panel to be conducted (via teleconference) has been cancelled.

DATES: The meeting will be held Monday, July 19, 2004.

FOR FURTHER INFORMATION CONTACT: Judi Nicholas at 1-888-912-1227, or 206-220-6096.

SUPPLEMENTARY INFORMATION: Notice is hereby given pursuant to Section 10(a)(2) of the Federal Advisory Committee Act, 5 U.S.C. App. (1988) that an open meeting of the Area 6 Committee of the Taxpayer Advocacy Panel will be held Monday, July 19, 2004 from 2 p.m. Pacific Time to 3 p.m. Pacific Time via a telephone conference call published on Monday, July 19, 2004, has been cancelled. For further information contact Judi Nicholas. Mrs. Nicholas can be reached at 1-888-912-1227 or 206-220-6096 or write to 915 Second Avenue, M/S W406, Seattle, WA 98174, or post comments to the web site: http://www.improveirs.org.

Dated: July 1, 2004.
Bernard Coston,
Director, Taxpayer Advocacy Panel.

[FR Doc. 04-15421 Filed 7-6-04; 8:45 am]

BILLING CODE 4830-01-U